DEPARTMENT OF THE INTERIOR

Fish and Wildlife Service

[FWS-R4-R-2010-N276; 40136-1265-0000-S3]

Laguna Cartagena National Wildlife Refuge, Lajas, Puerto Rico; Draft Comprehensive Conservation Plan and Environmental Assessment

AGENCY: Fish and Wildlife Service, Interior.

ACTION: Notice of availability; request for comments.

SUMMARY: We, the Fish and Wildlife Service (Service), announce the availability of our draft comprehensive conservation plan and environmental assessment (Draft CCP/EA) for Laguna Cartagena National Wildlife Refuge (NWR) for public review and comment. In the Draft CCP/EA, we describe the alternative we propose to use to manage this refuge for the 15 years following approval of the final CCP.

DATES: To ensure consideration, we must receive your written comments by June 1, 2011.

ADDRESSES: You may obtain a copy of the Draft CCP/EA by contacting Ms. Laura Housh, Regional Planner, Okefenokee NWR, 2700 Suwannee Canal Road, Folkston, GA 31537. Alternatively, you may download the document from our Internet Site at http://southeast.fws.gov/planning under “Draft Documents.”

FOR FURTHER INFORMATION CONTACT: Ms. Laura Housh, at 912/496-6273 (telephone) or laura_housh@fws.gov(e-mail); or Mr. Oscar Diaz, at 787/851-7258, extension 312 (telephone), or oscar_diaz@fws.gov (e-mail).

SUPPLEMENTARY INFORMATION:

Introduction

With this notice, we continue the CCP process for Laguna Cartagena NWR. We started the process through a notice of intent in the Federal Register on May 16, 2007 (72 FR 27588). For more about the refuge, its purposes, and our CCP process, please see that notice.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

The establishment of the refuge was justified to rehabilitate the lagoon for resident and migratory water birds and to provide increased wildlife-dependent public use. To date, 164 species of birds have been recorded in the area, including 25 first-records for Puerto Rico.

CCP Alternatives, Including Our Proposed Alternative

We developed three alternatives for managing the refuge and chose Alternative B as the proposed alternative. A full description of each alternative is in the Draft CCP/EA. We summarize each alternative below.

Alternative A (Current Management, No Action)

Under this alternative, our management actions would continue to be directed towards achieving the refuge's primary purposes. These purposes include restoring and enhancing native wildlife and plants, particularly the endangered yellow-shouldered blackbird; increasing the level of environmental awareness among residents and visitors; and protecting one of the most important shorebird habitats in the Caribbean. We would continue to restore and maintain existing subtropical dryland forest, the Cartagena Lagoon, and grassland habitats. Management programs would continue to be developed and implemented with limited baseline biological information. Active habitat wetland management would be implemented by continuing water-level management of the lagoon and conducting opportunistic removal of cattails to try and create more open water. Current visitor facilities, which are somewhat limited, would be maintained, but no additional facilities would be added, except for perhaps a new information kiosk. Law enforcement of refuge regulations and for protection of wildlife and visitors would continue at current levels, which is done through sharing the resource of a single law enforcement officer who is based at Cabo Rojo National Wildlife Refuge.

Alternative B (Wildlife Diversity and Habitat Restoration, Proposed)

Under this alternative, our emphasis would be on improving refuge resources for wildlife. We would provide greater enhancement and management of all habitats and associated plant communities for the greater benefit of wildlife. We would also work to reintroduce native fish to the lagoon and actively help to support birds that are threatened, endangered, or of management interest, including West Indian whistling ducks and kestrels. Specific activities that would be expanded or introduced under this alternative would include: Actively managing endangered plant populations, increasing native vegetative planting in the uplands, reducing the occurrence of exotic species, and better managing the lagoon's water quality and open-water restoration effort. In addition, we would expand the visitor services program, including facilities.

Additional staff would be required to implement this alternative. Such staff would likely include a biologist, a biological technician, two engineering equipment operators, a forestry technician (fire), a park ranger or environmental education specialist, a shared GIS specialist, and a shared law enforcement officer.

Alternative C (Wetland Restoration Emphasis)

Under this alternative, we would concentrate on improving the lagoon's water quality and habitat; less emphasis would be placed on upland restoration and management and general visitor services. We would provide support for the lagoon's rehabilitation and management. Priority activities (in and adjacent to the wetlands) would include invasive species management (particularly cattail clearing), water quality monitoring and management, water flow management, and creating improved wetland habitat conditions and opportunities.

Additional staff would be required to implement this alternative. Such staff would likely include a biologist, a biological technician, two engineering equipment operators, a forestry technician (fire), a park ranger or environmental education specialist, a shared GIS specialist, and a shared law enforcement officer.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: January 4, 2011.
Mark J. Musaus,
Acting Regional Director.

[FR Doc. 2011-10548 Filed 4-29-11; 8:45 am]

BILLING CODE 4310-55-P